DEPARTMENT OF HEALTH AND HUMAN SERVICES

Administration for Children and Families

State Median Income Estimates for Four-Person Families (FFY 2003); Notice of the Federal Fiscal Year (FFY) 2003 State Median Income Estimates for Use Under the Low Income Home Energy Assistance Program (LIHEAP) Administered by the Administration for Children and Families, Office of Community Services, Division of Energy Assistance

AGENCY: Office of Community Services, ACF, DHHS.

ACTION: Notice of estimated State median income for FFY 2003.

SUMMARY: This notice announces the estimated median income for four-person families in each State and the District of Columbia for FFY 2003 (October 1, 2002 to September 30, 2003). LIHEAP grantees may adopt the State median income estimates beginning with the date of this publication of the estimates in the Federal Register or at a later date as discussed below. This means that LIHEAP grantees could choose to implement this notice during the period between the heating and cooling seasons. However, by October 1, 2002, or by the beginning of a grantee's fiscal year, whichever is later, LIHEAP grantees using State median income estimates must adjust their income eligibility criteria to be in accord with the FFY 2003 State median income estimates.

This listing of estimated State median incomes concerns maximum income levels for households to which LIHEAP grantees may make payments under LIHEAP.

EFFECTIVE DATE: The estimates are effective at any time between the date of this publication and October 1, 2002, or by the beginning of a LIHEAP grantee's fiscal year, whichever is later.

FOR FURTHER INFORMATION CONTACT: Leon Litow,Administration for Children and Families, HHS,Office of Community Services,Division of Energy Assistance, 5th Floor West, 370 L'Enfant Promenade, SW.,Washington, DC 20447,Telephone: (202) 401-5304,E-Mail: llitow@acf.dhhs.gov.

SUPPLEMENTARY INFORMATION: Under the provisions of section 2603(7) of Title XXVI of the Omnibus Budget Reconciliation Act of 1981 (Pub. L. 97-35, as amended), we are announcing the estimated median income of a four-person family for each state, the District of Columbia, and the United States for FFY 2003 (the period of October 1, 2002, through September 30, 2003).

Section 2605(b)(2)(B)(ii) of the LIHEAP statute provides that 60 percent of the median income for each state, as annually established by the Secretary of the Department of Health and Human Services, is one of the income criteria that LIHEAP grantees may use in determining a household's eligibility for LIHEAP.

LIHEAP is currently authorized through the end of FFY 2004 by the Coats Human Services Reauthorization Act of 1998, Pub. L. 105-285, which was enacted on October 27, 1998.

Estimates of the median income of four-person families for each State and the District of Columbia for FFY 2003 have been developed by the Bureau of the Census of the U.S. Department of Commerce, using the most recently available income data. In developing the median income estimates for FFY 2003, the Bureau of the Census used the following three sources of data: (1) The March 2001 Current Population Survey; (2) the 1990 Decennial Census of Population; and (3) 2000 per capita personal income estimates, by state, from the Bureau of Economic Analysis (BEA) of the U.S. Department of Commerce.

Like the estimates for FFY 2002, the FFY 2003 estimates include income estimates from the March Current Population Survey that are based on population controls from the 1990 Decennial Census of Population. Income estimates prior to FFY 1996 from the March Current Population Survey had been based on population controls from the 1980 Decennial Census of Population. Generally, the use of 1990 population controls results in somewhat lower estimates of income.

In 1999, BEA revised its methodology in estimating per capita personal income estimates. BEA's revised methodology is reflected in the FFY 2003 state 4-person family median income estimates. Generally, the revised methodology decreased, on average, state median income estimates for FFY 2002 by about 0.04 percent. For further information on the estimating method and data sources, contact the Housing and Household Economic Statistics Division, at the Bureau of the Census (301-457-3243).

A state-by-state listing of median income, and 60 percent of median income, for a four-person family for FFY 2003 follows. The listing describes the method for adjusting median income for families of different sizes as specified in regulations applicable to LIHEAP, at 45 CFR 96.85(b), which was published in the Federal Register on March 3, 1988 at 53 FR 6824.

Dated: January 24, 2002.
Clarence H. Carter,
Director, Office of Community Services.

Estimated State Median Income for 4-Person Families, by State, Federal Fiscal Year 20031 ¹
States | Estimated state median income 4-person families ² | 60 percent of estimated state median income 4-person families
Alabama | $51,451 | $30,871
Alaska | 66,874 | 40,124
Arizona | 55,663 | 33,398
Arkansas | 44,537 | 26,722
California | 63,206 | 37,924
Colorado | 66,624 | 39,974
Connecticut | 82,702 | 49,621
Delaware | 69,360 | 41,616
District of Col | 63,406 | 38,044
Florida | 55,351 | 33,211
Georgia | 59,489 | 35,693
Hawaii | 65,872 | 39,523
Idaho | 53,722 | 32,233
Illinois | 68,117 | 40,870
Indiana | 62,079 | 37,247
Iowa | 57,921 | 34,753
Kansas | 56,784 | 34,070
Kentucky | 51,249 | 30,749
Louisiana | 47,363 | 28,418
Maine | 56,186 | 33,712
Maryland | 77,562 | 46,537
Massachusetts | 78,025 | 46,815
Michigan | 68,740 | 41,244
Minnesota | 70,553 | 42,332
Mississippi | 46,331 | 27,799
Missouri | 61,173 | 36,704
Montana | 46,142 | 27,685
Nebraska | 57,040 | 34,224
Nevada | 59,614 | 35,768
New Hampshire | 71,661 | 42,997
New Jersey | 78,560 | 47,136
New Mexico | 47,314 | 28,388
New York | 64,520 | 38,712
North Carolina | 57,203 | 34,322
North Dakota | 53,140 | 31,884
Ohio | 62,251 | 37,351
Oklahoma | 48,459 | 29,075
Oregon | 58,315 | 34,989
Pennsylvania | 65,411 | 39,247
Rhode Island | 68,418 | 41,051
South Carolina | 56,294 | 33,776
South Dakota | 55,150 | 33,090
Tennessee | 54,899 | 32,939
Texas | 53,513 | 32,108
Utah | 57,043 | 34,226
Vermont | 59,125 | 35,475
Virginia | 68,054 | 40,832
Washington | 63,568 | 38,141
West Virginia | 46,270 | 27,762
Wisconsin | 66,725 | 40,035
Wyoming | 55,859 | 33,515
Note: FFY 2003 covers the period of October 1, 2002 through September 30, 2003. The estimated median income for 4-person families living in the United States is $62,228 for FFY 2003. The estimates are effective for the Low Income Home Energy Assistance Program (LIHEAP) at any time between the date of this publication and October 1, 2002, or by the beginning of a LIHEAP grantee's fiscal year, whichever is later.
¹ In accordance with 45 CFR 96.85, each State's estimated median income for a 4-person family is multiplied by the following percentages to adjust for family size: 52% for one person, 68% for two persons, 84% for three persons, 100% for four persons, 116% for five persons, and 132% for six persons. For family sizes greater than six persons, add 3% for each additional family member and multiply the new percentage by the State's estimated median income for a 4-person family.
² Prepared by the Bureau of the Census from the March 2001 Current Population Survey, 1990 Decennial Census of Population and Housing, and 2000 per capita personal income estimates, by state, from the Bureau of Economic Analysis (BEA). In 1999, BEA revised its methodology in estimating per capita personal income estimates. BEA's revised methodology is reflected in the FFY 2003 state 4-person family median income estimates. For further information, contact the Housing and Household Economic Statistics Division at the Bureau of the Census (301-457-3243).

[FR Doc. 02-2224 Filed 1-29-02; 8:45 am]

BILLING CODE 4184-01-P